DEPARTMENT OF ENERGY

Federal Energy Regulatory Commission

[Docket No. EG04-66-000, et al.]

Indeck Maine Energy, L.L.C., et al.; Electric Rate and Corporate Filings

May 13, 2004.

The following filings have been made with the Commission. The filings are listed in ascending order within each docket classification.

1. Indeck Maine Energy, L.L.C.

[Docket No. EG04-66-000]

Take notice that on May 5, 2004, Indeck Maine Energy, L.L.C. (Indeck Maine), an Illinois limited liability company, with its principal executive office at 947 Linwood Avenue, Ridgewood, New Jersey 07450-2811, filed with the Federal Energy Regulatory Commission (Commission) an application for determination of exempt wholesale generator status pursuant to part 365 of the Commission's regulations and section 32 of the Public Utility Holding Company Act of 1935, as amended.

Indeck Maine states that its facilities consists of two steam generators producing approximately 54 MW (gross) of electric capacity located in Maine. Indeck Maine further states that it will be engaged directly and exclusively in the business of owning and operating eligible facilities and selling electric energy at wholesale.

Indeck Maine states that copies of the application have been served on the Maine Public Utility Commission and the Securities and Exchange Commission.

Comment Date: May 26, 2004.

2. Entergy-Koch Trading, LP

[Docket No. ER01-2781-006]

Take notice that on April 23, 2004, Entergy-Koch Trading, LP (EKT) filed a document informing the Commission of a non-material change in the characteristics that the Commission relied upon in granting EKT market-based rate authorization under section 205 of the Federal Power Act.

Comment Date: May 21, 2004.

3. Westar Energy, Inc.

[Docket No. ER02-2516-001]

Take notice that on May 10, 2004, Westar Energy, Inc. (Westar) submitted a compliance filing to convert certain of its non-conforming rate schedules to Order No. 614 format and reflect the corporate name change to Westar.

Westar states that a copy of this filing was served upon the Kansas Corporation Commission and the affected customers.

Comment Date: June 1, 2004.

4. Pacific Gas and Electric Company

[Docket No. ER04-141-001]

Take notice that on May 11, 2004, Pacific Gas and Electric Company (PG&E) submitted an amendment to the rate revision filing PG&E submitted on October 31, 2003, in Docket No. ER04-141-000. PG&E states that the filing includes rate schedule sheet revisions to the Reliability Must-Run Service Agreement between PG&E and the California Independent System Operator Corporation (ISO) for Humboldt Bay Power Plant. PG&E requests an effective date of June 1, 2004.

PG&E states that copies of PG&E's filing have been served upon the ISO, the California Electricity Oversight Board, and the California Public Utilities Commission.

Comment Date: June 1, 2004.

5. Virginia Electric and Power Company

[Docket No. ER04-549-002]

Take notice that on May 10, 2004, Virginia Electric and Power Company, doing business as Dominion Virginia Power, tendered for filing Attachment O to its open-access transmission tariff, FERC Electric Tariff, Second Revised Volume No. 5 (OATT), containing revised Large Generator Interconnection Procedures (LGIP) and a revised Large Generator Interconnection Agreement (LGIA) in compliance with Virginia Electric & Power Company, 107 FERC ¶ 61,010 (2004) and Order No. 2003-A. Dominion Virginia Power requests that the Commission allow the revised LGIA and LGIP to become effective April 26, 2004.

Dominion Virginia Power states that copies of the filing were served upon the official service list in this proceeding, the Virginia State Corporation Commission and the North Carolina Utilities Commission.

Comment Date: June 1, 2004.

6. Virginia Electric and Power Company

[Docket No. ER04-558-001]

Take notice that, on May 7, 2004, Virginia Electric and Power Company (Dominion North Carolina Power) submitted a compliance filing pursuant to the Commission's letter order issued April 7, 2004, in Docket No. ER04-558-000.

Dominion North Carolina Power states that copies of the filing were served upon the Power Agency and the official service list in the above-captioned proceeding.

Comment Date: May 28, 2004.

7. PPL Electric Utilities Corporation

[Docket No. ER04-575-001]

Take notice that on May 7, 2004, PPL Electric Utilities Corporation (PPL Electric) filed a Service Agreement under the PJM Open Access Transmission Tariff between PPL Electric and Baltimore Gas and Electric Company (BG&E) in compliance with the Commission's letter order issued April 22, 2004, in Docket No. ER04-575-000 conditionally accepting the Agreement pending proper tariff designations in accordance with Order No. 614.

PPL Electric states that a copy of this filing has been provided to BG&E.

Comment Date: May 28, 2004.

8. EnergyWindow, Inc.

[Docket No. ER04-584-002]

Take notice that on May 4, 2004, EnergyWindow, Inc. (EnergyWindow) filed supplemental information regarding its February 19, 2004, and April 19, 2004, filings in Docket Nos. ER04-584-000 and 001 requesting Commission acceptance of EnergyWindow's Rate Schedule FERC No. 1; the granting of certain blanket approvals, including the authority to sell electricity at market-based rates; and the waiver of certain Commission regulations.

Comment Date: May 25, 2004.

9. Midwest Independent Transmission System Operator, Inc.

[Docket No. ER04-738-001]

Take notice that on May 7, 2004, the Midwest Independent Transmission System Operator, Inc. (Midwest ISO) supplemented its April 15, 2004, Notice of Succession of Certain Transmission Service Agreements and Network Integration Transmission Service and Operating Agreements entered into by and between Ameren Services Company, as agent for its electric utility affiliates, Union Electric Company d/b/a AmerenUE and Central Illinois Public Service Company d/b/a AmerenCIPS (Ameren) and various transmission customers. Midwest ISO has requested an effective date of May 1, 2004.

The Midwest ISO states that it has served a copy of this filing upon the affected customers and has electronically served a copy of this filing, with attachments, upon all Midwest ISO Members, Member representatives of Transmission Owners and Non-Transmission Owners, the Midwest ISO Advisory Committee participants, as well as all State commissions within the region. In addition, Midwest states that the filing has been electronically posted on the Midwest ISO's Web site at http://www.midwestiso.org under the heading “Filings to FERC” for other interested parties in this matter. Midwest ISO also states that it will provide hard copies to any interested parties upon request.

Comment Date: May 28, 2004.

10. South Carolina Electric & Gas Company

[Docket No. ER04-764-001]

Take notice that on May 10, 2004, South Carolina Electric & Gas Company (SCE&G) filed with the Commission a supplemental filing proposing revisions to its open access transmission-tariff (OATT) in order to incorporate certain revisions to the Large Generator Interconnection Procedures (LGIP). SCE&G states that the supplemental filing includes the entire LGIP and Large Generator Interconnection Agreement as part of its OATT.

Comment Date: June 1, 2004.

11. Maine Public Service Company

[Docket No. ER04-819-000]

Take notice that on April 30, 2004, Maine Public Service Company (MPS) submitted for filing an executed interconnection agreement between MPS and WPS New England Generation, Inc. (WPS). MPS requests an effective date of April 1, 2004, for the agreement.

MPS state that copies of this filing were served upon WPS, the Maine Public Service Commission, and the Maine Office of Public Advocate.

Comment Date: May 28, 2004.

12. GenWest LLC

[Docket No. ER04-820-000]

Take notice that on May 7, 2004, GenWest LLC (GenWest) tendered for filing, pursuant to section 205 of the Federal Power Act, Original Rate Schedule No. 2, a Co-Tenancy Agreement between GenWest and Southern Nevada Water Authority (SNWA).

GenWest states that copies of this filing have been served upon SNWA and the Public Utilities Commission of Nevada.

Comment Date: May 28, 2004.

13. Black Hills Power, Inc., Basin Electric Power Cooperative, and Powder River Energy Corporation

[Docket No. ER04-821-000]

Take notice that on May 7, 2004, Black Hills Power, Inc., (Black Hills Power) Basin Electric Power Cooperative, and Powder River Energy Corporation (collectively, Tranmission Providers) filed as part of their joint open access transmission tariff the Large Generator Interconnection Procedures and Large Generator Interconnection Agreement, each as promulgated in Order No. 2003-A. Joint Providers request an effective date of April 26, 2004.

Comment Date: May 28, 2004.

13. Florida Power Corporation

[Docket Nos. ER04-822-000 and ER04-823-000]

Take notice that on May 7, 2004, Florida Power Corporation, doing business as Progress Energy Florida (Florida Power) tendered for filing cost support updates for its interchange service agreements pursuant to part 35 of the Commission's regulations. Florida Power also filed revised rate schedule sheets incorporating necessary rate changes reflecting the cost updates. Florida Power states that the filing also updates the Real Power Loss Factors in the Open Access Transmission Tariffs (OATTs) of Florida Power and Carolina Power and Light Company (CP&L). In addition, consistent with Order No. 2003-A, Florida Power and CP&L are filing Attachment P to the joint OATT to add the large generator interconnection procedures (LGIP) and large generator interconnection agreement (LGIA) that were proposed in Order No. 2003-A. Florida Power requests an April 26, 2004, effective date for the filing of the LGIA and LGIP and a May 1, 2004, effective date for the revised interchange rate schedule sheets and updated loss factors.

Florida Power states that copies of the filing letter (which identifies the updated charges) have been served on the counter-parties to the interchange service agreements and the interested state utility commissions. Florida Power further states that the entire submittal has been posted on the Florida Power and Carolina Power & Light Company Web site at: http://www.progress-energy.com.

Comment Date: May 28, 2004.

14. PECO Energy Company

[Docket No. ER04-824-000]

Take notice that on May 7, 2004, PECO Energy Company (PECO Energy) tendered for filing revised pages of its interconnection agreement with Exelon Generation Company, LLC, to reflect revised points of interconnection for Richmond Generating Station. PECO Energy requests that the Commission accept the revised pages of the Interconnection Agreement for filing effective as of May 10, 2004.

Comment Date: May 28, 2004.

15. PECO Energy Company

[Docket No. ER04-825-000]

Take notice that on May 7, 2004, PECO Energy Company (PECO Energy) tendered for filing revised pages of its interconnection agreement with Exelon Generation Company, LLC, to reflect revised points of interconnection for Schuylkill Generating Station. PECO Energy requests that the Commission accept the revised pages of the Interconnection Agreement for filing effective as of May 10, 2004.

Comment Date: May 28, 2004.

16. Nxegen, Inc.

[Docket No. ER04-826-000]

Take notice that on May 10, 2004, Nxegen, Inc. ( Nxegen) filed two Agreements for Supplemental Installed Capacity Southwest Connecticut between ISO New England, Inc. (ISO-NE) and Nxegen in compliance with the Commission's order issued February 27, 2004, in Docket No. ER04-335-000, New England Power Pool, 106 FERC 61,190 (2004). Nxegen requests action by May 10, 2004.

Nxegen states that copies of the filing were served on the ISO-NE.

Comment Date: June 1, 2004.

17. Tampa Electric Company

[Docket No. ER04-827-000]

Take notice that on May 10, 2004, Tampa Electric Company (Tampa Electric) tendered for filing a notice of cancellation of the service agreement with Reliant Energy Services, Inc. (Reliant) under Tampa Electric's Market-Based Sales Tariff. Tampa Electric proposes that the cancellation be made effective on July 10, 2004.

Tampa Electric states that copies of the filing have been served on Reliant and the Florida Public Service Commission.

Comment Date: June 1, 2004.

18. Pacific Gas and Electric Company

[Docket No. ER04-828-000]

Take notice that on May 11, 2004, Pacific Gas and Electric Company (PG&E) tendered for filing the Special Facilities Agreement for the Newark Substation Circuit Breaker 460 and 470 Breaker Replacement (SFA) between PG&E and Silicon Valley Power (SVP). PG&E requests that the Commission make the SFA effective no later than May 18, 2004.

PG&E states that copies of this filing were served upon SVP, the California Independent System Operator, and the California Public Utilities Commission.

Comment Date: June 1, 2004.

19. PJM Interconnection, L.L.C., Virginia Electric and Power Company

[Docket No. ER04-829-000]

Take notice that on May 11, 2004, PJM Interconnection, L.L.C. (PJM) and Virginia Electric and Power Company (Dominion) jointly submitted a filing containing documents to establish PJM as the Regional Transmission Organization (RTO) for Dominion pursuant to an arrangement known as “PJM South.” PJM and Dominion propose an effective date of the later to occur of November 1, 2004, and a date to be determined shortly after the date on which Dominion receives all necessary regulatory approvals to join PJM.

PJM and Dominion state that a copy of this filing was served on all State public utility commissions having jurisdiction over Dominion or over any of the existing PJM transmission owners, on all PJM members, and on Dominion's transmission customers, in addition to being posted on the PJM and PJM South websites.

Comment Date: June 1, 2004.

20. Entergy Services, Inc.

[Docket No. ER04-830-000]

Take notice that on May 11, 2004, Entergy Services, Inc., (Entergy) on behalf of Entergy Arkansas, Inc., Entergy Gulf States, Inc., Entergy Louisiana, Inc., Entergy Mississippi, Inc., and Entergy New Orleans, Inc., filed proposed revisions to the Commission's Standard Large Generator Interconnection Procedures (LGIP) to incorporate Entergy's deliverability test for Network Resource Interconnection Service resources. Entergy also included its ministerial filing of the LGIP and Standard Large Generator Interconnection Agreement pursuant to Order No. 2003-A, Standardization of Generator Interconnection Agreements and Procedures, 106 FERC ¶ 61,220 (2004).

Comment Date: June 1, 2004.

21. Calpine Newark, LLC

[Docket No. ER04-831-000]

Take notice that on May 11, 2004, Calpine Newark, LLC (the Applicant) tendered for filing, under section 205 of the Federal Power Act (FPA), a request for authorization to make wholesale sales of electric energy, capacity, replacement reserves, and ancillary services at market-based rates, to reassign transmission capacity, and to resell firm transmission rights.

Comment Date: June 1, 2004.

22. Calpine Parlin, LLC

[Docket No. ER04-832-000]

Take notice that on May 11, 2004, Calpine Parlin, LLC (Parlin) filed an amendment to its FERC Rate Schedule No. 2 to permit the sale of replacement reserves and ancillary services, the reassignment of transmission capacity and the resale of firm transmission rights.

Comment Date: June 1, 2004.

23. Southwest Power Pool, Inc.

[Docket No. ER04-833-000]

Take notice that on May 11, 2004, Southwest Power Pool, Inc. (SPP) submitted to the Commission a revision to its regional Open Access Transmission Tariff (OATT) to provide for an experimental Transmission Service Prepayment procedure. SPP states that the experimental program is to remain in place for one year, unless extended by further authorization of the Commission. SPP requests an effective date of July 1, 2004, for this program so that it will be in effect for the period of July 1, 2004, through June 30, 2005.

SPP states that it has served a copy of its transmittal letter on each of its Members and Customers, as well as on all generators in existing generation queue. SPP further states that a complete copy of this filing will be posted on the SPP Web site http://www.spp.org, and is also being served on all affected State commissions.

Comment Date: June 1, 2004.

24. Virginia Electric and Power Company

[Docket No. ER04-834-000]

Take notice that on May 11, 2004, Virginia Electric and Power Company (Dominion) submitted amendments to its market-based rate tariffs to eliminate the restriction on sales within Dominion's service territory, effective on the date that Dominion integrates its transmission facilities into the PJM Interconnection, L.L.C.

Dominion states that it is serving a complete copy of the filing on the Virginia and North Carolina State public utility commissions and on all customers under the two Dominion market-based rate tariffs. In addition, Dominion states that the entire filing is being posted on the PJM South Web site.

Comment Date: June 1, 2004.

25. California Independent System Operator Corporation

[Docket No. ER04-835-000

Take notice that the California Independent System Operator Corporation (ISO) tendered for filing Amendment No. 60 to the ISO Tariff, for acceptance by the Commission. The ISO states that the purposes of Amendment No. 60 are to (1) propose the use of a Security-Constrained Unit Commitment (SCUC) application to minimize must-offer commitment costs; (2) revise the gas cost proxy used in the Minimum Load Cost Compensation (MLCC) payment and Start-Up payments; (3) include auxiliary power as a recoverable Start-Up cost; (4) eliminate the current practice of rescinding MLCC payments when a unit provides Ancillary Services; (5) revise the timing of the must-offer waiver denial process to facilitate bidding into the Day-Ahead Ancillary Services markets; (6) clarify Self-Commitment and its implications on MLCC payment; (7) revise how MLCC costs are allocated; and (8) establish a framework for using Condition 2 RMR Units outside of the Reliability Must-Run (RMR) Contract.

The ISO states that it has served copies of this letter, and all attachments, on the California Public Utilities Commission, the California Energy Commission, the California Electricity Oversight Board, on all parties with effective Scheduling Coordinator Service Agreements under the ISO Tariff, and on all parties on the official service list for Docket Nos. EL00-95 and EL00-98. In addition, the ISO states that it is posting this transmittal letter and all attachments on the ISO home page.

Comment Date: June 1, 2004.

26. Total Gas & Electricity, Inc.

[Docket No. ER04-836-000]

Take notice that on May 12, 2004, Total Gas & Electricity, Inc. (TG&E) filed a notice of succession of TG&E's FERC Rate Schedule No. 1 to MxEnergy Electric Inc., effective March 31, 2004.

Comment Date: June 2, 2004.

27. Total Gas & Electricity (PA), Inc.

[Docket No. ER04-837-000]

Take notice that on May 12, 2004, Total Gas & Electricity (PA), Inc. (TG&E PA) filed a notice of succession of TG&E PA's FERC Rate Schedule No. 1 to MXEnergy Electric Inc., effective March 31, 2004.

Comment Date: June 2, 2004.

28. Consumers Energy Company

[Docket No. ES04-31-000]

Take notice that on May 10, 2004, Consumers Energy Company submitted an application pursuant to section 204 of the Federal Power Act requesting that the Commission authorize the issuance of secured and unsecured short-term securities in an amount not to exceed $2.2 billion.

Comment Date: June 2, 2004.

29. Consumers Energy Company

[Docket No. ES04-32-000]

Take notice that on May 10, 2004, Consumers Energy Company (Consumers) submitted an application pursuant to section 204 of the Federal Power Act requesting that the Commission authorize the issuance of secured and unsecured long-term securities in an amount not to exceed $5.0 billion.

Consumers also requests a waiver from the Commission's competitive bidding and negotiated placement requirements at 18 CFR 34.2.

Comment Date: June 2, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary

[FR Doc. E4-1182 Filed 5-20-04; 8:45 am]

BILLING CODE 6717-01-P